OFFICE OF SCIENCE AND TECHNOLOGY POLICY

Meeting of the President's Council of Advisors On Science and Technology

ACTION: Notice of public meeting.

SUMMARY: This notice sets forth the schedule and summary agenda for a meeting of the President's Council of Advisors on Science and Technology (PCAST) and describes the functions of the Council. Notice of this meeting is required under the Federal Advisory Committee Act.

Dates and Place: October 5, 2004, Washington, DC. The meeting will be held in the Horizon Ballroom of the Ronald Reagan Building at the International Trade Center, 1300 Pennsylvania Avenue, NW., Washington, DC 20001.

Type of Meeting: Open. Further details on the agenda will be posted on the PCAST Web site at: http://www.ostp.gov/PCAST/pcast.html.

Proposed Schedule and Agenda: The President's Council of Advisors on Science and Technology is scheduled to meet in open session on Tuesday October 5, 2004, at approximately 8:30 a.m. The PCAST will hold a Workshop on Transatlantic Research and Development Cooperation. The workshop will examine the many formal and informal mechanisms that exist to facilitate the advancement of science through joint research with foreign colleagues throughout Europe. The purpose of this workshop is to identify contemporary issues related to transatlantic cooperation at the individual, academic, corporate and national levels. PCAST will use the proceedings of this workshop to identify topics that merit further examination by the Council. Several members of the European Union Research Advisory Board are expected to join PCAST during the session. The workshop will end at approximately 5 p.m.

Additional information on the workshop will be posted at the PCAST Web site at: http://www.ostp.gov/PCAST/pcast.html.

Public Comments: There will be time allocated for attendees to join in the discussion of the above agenda items. Public comment time is designed for substantive and relevant commentary, not for business marketing purposes. Written comments are also welcome at any time prior to or following the meeting. Please notify Stan Sokul, PCAST Executive Director, at (202) 456-6070, or fax your comments to (202) 456-6021.

FOR FURTHER INFORMATION CONTACT: For additional information regarding time, place and agenda, please call Stan Sokul at (202) 456-6070, prior to 3 p.m. on Friday, October 1, 2004. Information will also be available at the PCAST Web site at: http://www.ostp.gov/PCAST/pcast.html. Please note that public seating for this meeting is limited and is available on a first-come, first-served basis.

SUPPLEMENTARY INFORMATION: The President's Council of Advisors on Science and Technology was established by Executive Order 13226, on September 30, 2001. The purpose of PCAST is to advise the President on matters of science and technology policy and to assist the President's National Science and Technology Council in securing private sector participation in its activities. The Council members are distinguished individuals appointed by the President from non-Federal sectors. The PCAST is co-chaired by Dr. John H. Marburger, III, the Director of the Office of Science and Technology Policy, and by E. Floyd Kvamme, a Partner at Kleiner Perkins Caufield & Byers.

Ann Mazur,
Assistant Director for Budget and Administration, Office of Science and Technology Policy.

[FR Doc. 04-21418 Filed 9-22-04; 8:45 am]

BILLING CODE 3170-W4-P